INTERNATIONAL TRADE COMMISSION

[USITC SE-11-004]

Government in the Sunshine Act Meeting Notice

AGENCY HOLDING THE MEETING: United States International Trade Commission.

TIME AND DATE: February 16, 2011 at 11 a.m.

PLACE: Room 110, 500 E Street SW., Washington, DC 20436, Telephone: (202) 205-2000.

STATUS: Open to the public.

MATTERS TO BE CONSIDERED: 1. Agenda for future meetings: none.

2. Minutes.

3. Ratification List.

4. Vote in Inv. No. 731-TA-298 (Third Review) (Porcelain-on-Steel Cooking Ware from China). The Commission is currently scheduled to transmit its determination and Commissioners' opinions to the Secretary of Commerce on or before February 28, 2011.

5. Outstanding action jackets:

(1.) Document No. GC-10-281 concerning Inv. No. 337-TA-722 (Certain Automotive Vehicles and Designs Therefore).

(2.) Document No. GC-11-011 concerning Inv. No. 337-TA-568 (Certain Products and Pharmaceutical Compositions Containing Recombinant Human Erythropoetin).

(3.) Document No. GC-11-013 concerning Inv. No. 337-TA-587 (Remand) (Certain Connecting Devices (“Quick Clamps”) for Use with Modular Compressed Air Conditioning Units, Including Filters, Regulators, and Lubricators (“FRL's”) That are Part of Larger Pneumatic Systems and the FRL Units They Connect).

In accordance with Commission policy, subject matter listed above, not disposed of at the scheduled meeting, may be carried over to the agenda of the following meeting. Earlier Notification of this meeting was not possible.

By order of the Commission.
Issued: February 10, 2011.
William R. Bishop,
Hearings and Meetings Coordinator.

[FR Doc. 2011-3460 Filed 2-11-11; 11:15 am]

BILLING CODE 7020-02-P